DEPARTMENT OF VETERANS AFFAIRS

Notice of Availability of a Draft Environmental Impact Statement for the Reconfiguration of VA Black Hills Health Care System; Comment Period Extension

AGENCY: Department of Veterans Affairs.

ACTION: Notice of availability; Comment period extension.

SUMMARY: The Department of Veterans Affairs (VA) published, in the Federal Register on October 30, 2015, the Notice of Availability of a Draft Environmental Impact Statement (EIS) for the Reconfiguration of VA Black Hills Health Care System (BHHCS) that analyzes the potential impacts of six alternatives for changes to VA's facilities in Hot Springs and Rapid City, South Dakota. Due to requests from the public and other stakeholders, VA is extending the closing date for the comment period for the Draft EIS through May 5, 2016.

DATES: All comments must be received by May 5, 2016.

ADDRESSES: Submit written comments on the VA BHHCS Reconfiguration Draft EIS online through www.blackhillseis.com, by email to vablackhillsfuture@va.gov, or by regular mail to Staff Assistant to the Director, VA Black Hills Health Care System, 113 Comanche Road, Fort Meade, SD 57741. Please refer to “BHHCS Reconfiguration Draft EIS” in any correspondence.

FOR FURTHER INFORMATION CONTACT: Staff Assistant to the Director, VA Black Hills Health Care System, at the address above or by email to vablackhillsfuture@va.gov.

Dated: March 10, 2016.
William F. Russo,
Director, Office of Regulation Policy & Management, Office of the General Counsel, Department of Veterans Affairs.

[FR Doc. 2016-05837 Filed 3-15-16; 8:45 am]

BILLING CODE 8320-01-P